DEPARTMENT OF HEALTH AND HUMAN SERVICES

National Institutes of Health

National Library of Medicine; Request for Nominations

Summary: The National Institutes of Health (NIH) is issuing this notice to invite private sector providers and users of chemical information to indicate their interest in participating in a new working group of the Board of Scientific Counselors of the National Center for Biotechnology Information (NCBI), National Library of Medicine (NLM), to advise on interactions with private sector information providers in the development of PubChem. PubChem is a publicly available NIH database that includes information about the biological activities of chemical compounds. It is designed to facilitate more integrated access to these information resources for biomedical researchers. The working group will advise on such issues as improving connections with private sector chemical information providers in order to enhance linkages and interoperability among resources and avoid unnecessary duplication with commercial information services.

Response Date: Persons, groups, or organizations interested in participating in the working group should send an e-mail indicating their expertise in issues related to PubChem, along with their contact information, to: Christine Ireland, Committee Management Officer, NLM, irelanc@mail.nih.gov. Emails must be received on or before October 3, 2005.

Supplementary Information: In 2004, as part of the NIH's Roadmap Initiative to speed new medical treatments and improved health care to all Americans, NIH launched an on-line database called PubChem as part of an integrated suite of databases supporting the New Pathways to Discovery component of the Roadmap effort. New Pathways focuses on very basic biomedical research, and especially focuses on understanding the molecular biology of health and illnesses. Bioinformatics is a critical component of that effort and PubChem provides the free, publicly available database that links chemical information with biomedical research and clinical information.

Drawing from many public sources, PubChem organizes information about the biological activities of chemical compounds into a comprehensive biomedical database. All of this supports the part of the Roadmap called the Molecular Libraries initiative. This includes nine different components—a compound repository, the NIH Chemical Genomics Center, the Molecular Libraries Screening Center Network, PubChem, a series of Cheminformatics Research Centers, and technology development for chemical diversity synthesis, assay development, instrumentation, and toxicology. PubChem is the informatics backbone for virtually all of these components, and is intended to empower the scientific community to use small molecule chemical compounds in their research. Small molecules include many of the chemicals commonly used as medicines. They affect genes, proteins, cells, and people. Identification of small molecule tools is a compelling next step following on the success of the Human Genome Project. It offers a new paradigm to transform basic biomedical research, speeding development of new therapies and finding solutions to America's most important health problems. NIH's goals are to rapidly translate the discoveries of the genome into new therapeutics and to integrate small molecule chemistry into biomedical research. PubChem facilitates these efforts by linking genome, chemistry, protein, and biomedical literature information. This seamless integration of resources is essential for providing information about potential starting points for the development of new medications. Without PubChem, the work of NIH funded scientists will be greatly hampered and progress in biomedical research will be slowed.

NIH intends to continue to operate PubChem as a free, publicly available resource that is an integral part of the NIH Roadmap Initiative. This is consistent with the principles of publicly funded science. NLM has had extensive and valuable private sector interactions for developing and maintaining other major information resources, such as sequence databases and PubMed/Medline. NIH believes that the private sector has expertise that will be helpful in the further development of PubChem and will help to ensure coordinated and integrated access by researchers to the full range of resources useful for advancing scientific discovery. Therefore, NIH is asking private sector providers and users of chemical information to indicate their interest in participating in a working group of the NLM/NCBI Board of Scientific Counselors, which is established under the Federal Advisory Committee Act. All members of such a working group would be required to disclose their potential conflicts. This new working group of outside experts would be separate from the existing PubChem Working Group, which provides advice about details of the operation of the PubChem database and also reports to the NCBI Board of Scientific Counselors. Specifically, this working group would advise the NCBI Board of Scientific Counselors on such issues as:

• Establishing a process for retrospective evaluation of the biomedical relevance of compounds entered into PubChem

• Ensuring the provenance of the data (i.e., whether private data are being improperly deposited in PubChem)

• Ensuring the high quality of data in PubChem

• Monitoring the effect of PubChem on scientific progress

• Improving/integrating interactions with commercial information providers

• Avoiding unnecessary duplication with commercial information providers

Dated: August 29, 2005.
Anthony M. Coelho, Jr.,
Acting Director, Office of Federal Advisory Committee Policy, NIH.

[FR Doc. 05-17488 Filed 8-31-05; 8:45 am]

BILLING CODE 4140-01-M